DEPARTMENT OF ENERGY

Federal Energy Regulatory Commission

Notice Establishing Post-Technical Conference Comments

| Docket Nos.
PJM Interconnection, L.L.C | ER15-2562-000 ER15-2563-000.
Consolidated Edison Company of New York, Inc. v. PJM Interconnection, L.L.C | EL15-18-001.
Linden VFT, LLC v. PJM Interconnection, L.L.C | EL15-67-000.
Delaware Public Service Commission and Maryland Public Service Commission v. PJM Interconnection, L.L.C | EL15-95-000.
PJM Interconnection, L.L.C | ER14-972-003.
PJM Interconnection, L.L.C | ER14-1485-005 Not Consolidated.

In an order dated November 24, 2015,¹ the Commission found that the assignment of cost allocation for the projects in the filings and complaints listed in the caption using PJM's solution-based distribution factor (DFAX) cost allocation method had not been shown to be just and reasonable and may be unjust, unreasonable, or unduly discriminatory or preferential. The Commission directed its staff to establish a technical conference to explore both whether there is a definable category of reliability projects within PJM for which the solution-based DFAX cost allocation method may not be just and reasonable, such as projects addressing reliability violations that are not related to flow on the planned transmission facility, and whether an alternative just and reasonable ex ante cost allocation method could be established for any such category of projects.

¹ PJM Interconnection, L.L.C., et al., 153 FERC ¶ 61,245 (2015) (November 2015 Order).

The technical conference was held on January 12, 2016. At the technical conference, staff indicated that it would establish a schedule for post-technical conference comments after reviewing the technical conference transcript. A revised technical conference transcript was placed in the above-referenced dockets on February 9, 2016.

Post-technical conference comments, not to exceed 20 pages, are due on or before March 1, 2016.

For more information about this technical conference, please contact PJMDFAXconfDL@ferc.gov; or Sarah McKinley, 202-502-8368, sarah.mckinley@ferc.gov, regarding logistical issues.

Dated: February 9, 2016.
Nathaniel J. Davis, Sr.,
Deputy Secretary.

[FR Doc. 2016-03018 Filed 2-12-16; 8:45 am]

BILLING CODE 6717-01-P